DEPARTMENT OF ENERGY

Federal Energy Regulatory Commission

[Docket No. CP24-508-000]

Rover Pipeline LLC; Notice of Schedule for the Preparation of an Environmental Assessment for the Rover-Sunny Farms Receipt and Delivery Meter Station Project

On August 2, 2024, Rover Pipeline LLC (Rover) filed an application in Docket No. CP24-508-000 requesting a Certificate of Public Convenience and Necessity pursuant to Section 7(c) of the Natural Gas Act to construct facilities at a new interconnect on Rover's mainline in Hancock County, Ohio. The proposed project is known as the Rover-Sunny Farms Receipt and Delivery Meter Station Project (Project).

On August 16, 2024, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ In accordance with the Council on Environmental Quality's regulations, the unique identification number for documents relating to this environmental review is EAXX-019-20-000-1725459309. 40 CFR 1501.5(c)(4) (2024).

Schedule for Environmental Review

Issuance of EA—January 24, 2025

90-day Federal Authorization Decision Deadline ²—April 24, 2025

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Rover proposes to construct and operate aboveground facilities and new pipeline delivery and receipt point interconnections within and adjacent to Rover's Mainline easement, at approximate milepost 154.54, in Hancock County, Ohio. The project receipt interconnection would receive up to 6,269 dekatherms of natural gas per day and the delivery interconnection and would deliver up to 7,893 dekatherms of natural gas per day.

The Project would consist of the following facilities and activities:

• construction of one delivery meter station with one hot tap, one tap valve, and dual Coriolis Meter Skid;

• construction of one receipt meter station with one hot tap, one tap valve, dual Coriolis Meter Skid, and a gas quality/measurement building;

• 90 feet of interconnect piping;

• installation of associated appurtenant facilities; and

• construction of 0.6 mile of new permanent access road leading from West County Road 18 to the meter station.

Background

On September 16, 2024, the Commission issued a Notice of Scoping Period Requesting Comments on Environmental Issues for the Proposed Rover-Sunny Farms Receipt and Delivery Meter Station Project (Notice of Scoping). The Notice of Scoping was sent to affected landowners; federal, state, and local government agencies; elected officials; environmental and public interest groups; Native American tribes; other interested parties; and local libraries and newspapers. The U.S. Fish and Wildlife Service provided comments on wetlands, wildlife, and endangered species. All substantive comments received will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP24-508), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 16, 2024.
Debbie-Anne A. Reese,
Secretary.

[FR Doc. 2024-24478 Filed 10-22-24; 8:45 am]

BILLING CODE 6717-01-P